SMALL BUSINESS ADMINISTRATION

[License No. 05/05-0335]

Serra Capital (SBIC) III, L.P.; Surrender of License of Small Business Investment Company

Pursuant to the authority granted to the United States Small Business Administration under section 309 of the Small Business Investment Act of 1958, as amended, and 13 CFR 107.1900 of the Code of Federal Regulations to function as a small business investment company under the Small Business Investment Company license number 05/05-0335 issued to Serra Capital (SBIC) III, L.P., said license is hereby declared null and void.

Bailey Devries,
Associate Administrator, Office of Investment and Innovation, United States Small Business Administration.

[FR Doc. 2024-05050 Filed 3-8-24; 8:45 am]

BILLING CODE P